INTERNATIONAL TRADE COMMISSION

[Investigation No. 337-TA-935]

Certain Personal Transporters, Components Thereof, and Manuals Therefor; Commission's Determination Not To Review an Initial Determination Terminating Respondents Ninebot (Tianjin) Technology Co., Ltd., Ninebot Inc. (USA), and Powerunion (Beijing) Tech Co., Ltd. Based on Settlement; Amendment of the Notice of Investigation

AGENCY: U.S. International Trade Commission.

ACTION: Notice.

SUMMARY: Notice is hereby given that the U.S. International Trade Commission has determined not to review the presiding administrative law judge's (“ALJ”) initial determination (“ID”) (Order No. 27) terminating Ninebot (Tianjin) Technology Co., Ltd, Ninebot Inc. (USA), and PowerUnion (Beijing) Tech Co. Ltd. based on settlement. The Commission amends the Notice of Investigation to correct the corporate name of Ninebot Inc. (China) to Ninebot (Tianjin) Technology Co., Ltd.

FOR FURTHER INFORMATION CONTACT: Amanda Pitcher Fisherow, Esq., Office of the General Counsel, U.S. International Trade Commission, 500 E Street SW., Washington, DC 20436, telephone (202) 205-2737. Copies of non-confidential documents filed in connection with this investigation are or will be available for inspection during official business hours (8:45 a.m. to 5:15 p.m.) in the Office of the Secretary, U.S. International Trade Commission, 500 E Street, SW., Washington, DC 20436, telephone (202) 205-2000. General information concerning the Commission may also be obtained by accessing its Internet server at http://www.usitc.gov. The public record for this investigation may be viewed on the Commission's electronic docket (EDIS) at http://edis.usitc.gov. Hearing-impaired persons are advised that information on this matter can be obtained by contacting the Commission's TDD terminal on (202) 205-1810.

SUPPLEMENTARY INFORMATION: The Commission instituted this investigation on November 10, 2014, based on a complaint filed on behalf of Segway Inc. of Bedford, New Hampshire and DEKA Products Limited Partnership of Manchester, New Hampshire (collectively “Complainants”). 79 FR 66739-40 (Nov. 10, 2014). The complaint was filed on September 9, 2014; a supplement to the complaint was filed on September 19, 2014; and an amended complaint was filed on October 6, 2014. The amended complaint alleges violations of Section 337 of the Tariff Act of 1930, as amended, 19 U.S.C. 1337, in the sale for importation, importation, or sale within the United States after importation of certain personal transporters, components thereof, and manuals therefor by reason of infringement of certain claims of U.S. Patent No. 6,789,640; U.S. Patent No. 7,275,607; U.S. Patent No. 8,830,048; U.S. Design Patent No. D551,722; U.S. Design Patent No. D551,592; and Copyright Registration No. TX 7-800-563. The Commission's notice of investigation named numerous respondents including, among others: PowerUnion (Beijing) Tech Co. Ltd. (“PowerUnion”) of Beijing, China; Ninebot Inc. of Beijing China, and Ninebot Inc. of Newark, Delaware (collectively “Ninebot”). A Commission investigative attorney (IA) is participating in the investigation.

On August 13, 2015, Complainants and Respondents Ninebot and PowerUnion (collectively the “Settling Respondents”) filed a joint motion to terminate the investigation with respect to the Settling Respondents based on a settlement agreement. On August 19, 2015, the IA filed a response supporting the motion.

On August 20, 2015, the ALJ granted the motion. Order No. 27. The ALJ explained that Complainants and the Settling Respondents entered into a sublicense agreement; and Segway and the Settling Respondents entered into a license agreement. Id. at 2-3. The ALJ found that the parties complied with the rules and provided confidential and non-confidential versions of the sublicense agreement and that the license agreement is non-confidential. Id. at 3. The ALJ noted that the parties represented that the only other relevant agreements, written or oral, express or implied between them concerning the subject matter of this investigation are an agreement attached to the joint motion as Confidential Exhibit D, and the Ginger License Agreement that was attached to the amended complaint (Exhibit 7). Id. at 3-4. The ALJ also determined that partial termination of the investigation based on settlement would not impose any undue burdens on public health and welfare, competitive conditions in the U.S. economy, the production of like or directly competitive articles in the United States, or U.S. consumers. Id. at 4. No petitions for review were filed.

In the ID, the ALJ noted that the correct corporate name for Ninebot Inc. (China) is Ninebot (Tianjin) Technology Co., Ltd. which was identified by Ninebot in its response to the amended complaint.

The Commission has determined not to review the subject ID.

The Commission hereby amends the Notice of Investigation to correct the corporate name of Ninebot Inc. (China) to Ninebot (Tianjin) Technology Co., Ltd.

The authority for the Commission's determination is contained in section 337 of the Tariff Act of 1930, as amended (19 U.S.C. 1337), and in Part 210 of the Commission's Rules of Practice and Procedure (19 C.F.R. part 210).

By order of the Commission.
Issued: September 18, 2015.
Lisa R. Barton,
Secretary to the Commission.

[FR Doc. 2015-24151 Filed 9-22-15; 8:45 am]

BILLING CODE 7020-02-P